DEPARTMENT OF THE INTERIOR

Minerals Management Service

Agency Information Collection Activities: Submitted for Office of Management and Budget Review, Comment Request

AGENCY: Minerals Management Service (MMS), Interior.

ACTION: Notice of extension of a currently approved Information Collection (OMB Control Number 1010-0095).

SUMMARY: To comply with the Paperwork Reduction Act (PRA) (44 U.S.C. 3501 et seq.), we are notifying you that we have submitted an information collection request (ICR) to the Office of Management and Budget (OMB) for review and approval. We are also soliciting your comments on this ICR which describes the information collection, its expected costs and burden, and how the data will be collected.

DATES: Written comments should be received on or before April 28, 2000.

ADDRESSES: You may submit comments directly to the Office of Information and Regulatory Affairs, OMB, Attention: Desk Officer for the Department of the Interior (OMB Control Number 1010-0095), 725 17th Street, NW, Washington, DC 20503. Copies of these comments should also be sent to David S. Guzy, Chief, Rules and Publications Staff, Minerals Management Service, Royalty Management Program, PO Box 25165, MS 3021, Denver, Colorado 80225. Courier address is Building 85, Room A-613, Denver Federal Center, Denver, Colorado 80225. Email address is RMP.comments@mms.gov.

Public Comment Procedure: Please submit Internet comments as an ASCII file avoiding the use of special characters and any form of encryption. Please also include Attn: Request to Exceed Regulatory Allowance Limitation, Form MMS-4393, OMB Control Number 1010-0095, and your name and return address in your Internet message. If you do not receive a confirmation from the system that we have received your Internet message, contact David S. Guzy directly at (303) 231-3432.

We will post public comments after the comment period closes on the Internet at http://www.rmp.mms.gov. You may arrange to view paper copies of the comments by contacting David S. Guzy, Chief, Rules and Publications Staff, telephone (303) 231-3432, FAX (303) 231-3385. Our practice is to make comments, including names and addresses of respondents, available for public review on the Internet and during regular business hours at our offices in Lakewood, Colorado. Individual respondents may request that we withhold their home address from the rulemaking record, which we will honor to the extent allowable by law. There also may be circumstances in which we would withhold from the rulemaking record a respondent's identity, as allowable by law. If you wish us to withhold your name and/or address, you must state this prominently at the beginning of your comment. However, we will not consider anonymous comments. We will make all submissions from organizations or businesses, and from individuals identifying themselves as representatives or officials of organizations or businesses, available for public inspection in their entirety.

FOR FURTHER INFORMATION CONTACT: Dennis C. Jones, Rules and Publications Staff, phone (303) 231-3046, FAX (303) 231-3385, email Dennis.C.Jones@mms.gov.

SUPPLEMENTARY INFORMATION: Title: Request to Exceed Regulatory Allowance Limitation.

OMB Control Number: 1010-0095.

Abstract: The Department of the Interior is responsible for matters relevant to mineral resource development on Federal and Indian Lands and the Outer Continental Shelf (OCS). The Secretary of the Interior (Secretary) is responsible for managing the production of minerals from Federal and Indian Lands and the OCS; for collecting royalties from lessees who produce minerals; and for distributing the funds collected in accordance with applicable laws. MMS performs the royalty management functions for the Secretary.

MMS Royalty Management Program (RMP) is proposing to continue the use of Form MMS-4393, Request to Exceed Regulatory Allowance Limitation, to be used by royalty payors on Federal or Indian mineral leases. The payors will use the form when requesting MMS approval to exceed established transportation or processing allowance limits.

To request permission to exceed an allowance limit, royalty payors must write a letter to MMS providing the reasons why a higher allowance limit is necessary. Although the request to exceed an allowance limit is voluntary on the part of the payors and results in a benefit to them, many times payors have not provided all of the data needed by MMS to approve or deny a request. The followup necessary to obtain required information creates an additional burden for both the payor and the Government. RMP developed Form MMS-4393 to be included with the payor's request for approval to exceed the allowance limit. The form ensures that MMS receives the lease data required to make a decision on the request by including the Accounting Identification Number identifying the lease, the product code identifying the product being transported or processed, and the selling arrangement used to identify the marketing outlet for the product. These are the necessary data that have been missing from many of the requests in the past. We estimate the annual reporting and recordkeeping burden to complete this information collection per respondent is 30 minutes.

The PRA provides that an agency may not conduct or sponsor, and a person is not required to respond to, a collection of information unless it displays a currently valid OMB Control Number. A 60-day Federal Register Notice soliciting comments on this collection of information was published on December 8, 1999 (64 FR 68699). No comments were received.

Respondents/Affected Entities: Royalty payors.

Frequency of Response: Annually.

Estimated Number of Respondents: 75 payors.

Estimated Annual Reporting and Recordkeeping “Hour.”

Burden: 37 burden hours. Refer to the following chart:

Citation | Reporting & recordkeeping requirements | Frequency | Number of respondents | Burden | Total annual burden hours
§ 206.104(b)(1); § 206.156(c)(3); and § 206.158(c)(3) | Submit request in writing and complete Form MMS-4393 | Annually | 75 | .50 hour | 37
Total |  |  | 75 |  | 37

Estimated Annual Reporting and Recordkeeping “Non-Hour Cost” Burden: We have identified no cost burdens for this collection.

Comments: Section 3506(c)(2)(A) of the PRA requires each agency “* * * to provide notice * * * and otherwise consult with members of the public and affected agencies concerning each proposed collection of information. * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Send your comments directly to the offices listed under the ADDRESSES section of this notice. OMB has up to 60 days to approve or disapprove the information collection but may respond after 30 days. Therefore, to ensure maximum consideration, OMB should receive public comments by April 28, 2000.

MMS Information Collection Clearance Officer: Jo Ann Lauterbach (202) 208-7744.

Dated: March 24, 2000.
Lawrence E. Cobb,
Acting Associate Director for Royalty Management.

[FR Doc. 00-7758 Filed 3-28-00; 8:45 am]

BILLING CODE 4310-MR-P